DEPARTMENT OF COMMERCE

National Oceanic and Atmospheric Administration

Proposed Information Collection; Comment Request; Davidson Fellowship

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act (PRA) of 1995.

DATES: To ensure consideration, written or on-line comments must be submitted on or before June 1, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Chris Ellis, NOAA Office for Coastal Management, 2234 South Hobson Avenue, Charleston SC 29405, ((843) 740-1195), chris.ellis@noaa.gov.

SUPPLEMENTARY INFORMATION:

I. Abstract

The Office for Coastal Management (OCM) in the National Ocean Service, National Oceanic and Atmospheric Administration, Department of Commerce is funding a new, two-year fellowship program called the “FY20-21 Margaret A. Davidson Graduate Fellowship for the National Estuarine Research Reserve System” (Davidson Fellowship). Funding is being made available through a competitive process to master's and doctoral students actively enrolled in a graduate program at an accredited university, through the use of a cooperative agreement to the university. The goals of the Davidson Fellowship are to build the next generation of leaders in estuarine science and coastal management by affording qualified graduate students the opportunity to conduct collaborative science within the National Estuarine Research Reserve System; partake in professional development opportunities; and receive mentoring to support professional growth.

The National Estuarine Research Reserve System is a national program administered by the Office for Coastal Management. The National Estuarine Reserve System has an interest in balancing the needs of the natural environment and coastal economies and is one of the primary programs responsible for implementing the Coastal Zone Management Act. All Davidson Fellowship projects must be conducted in a research reserve and should be designed to contribute to one of the reserve's priority management areas, and thus enhance the scientific understanding of the natural or social science aspects of the research subject matter. One fellow is being selected in Spring 2020 for each of the 29 reserves for a two-year duration. Mentoring and professional development activities will be provided to build knowledge and skills needed to successfully contribute to the workforce responsible for the coast. These opportunities are also designed to create a strong network among the fellows during their tenure and into the early portion of their careers.

The purpose of this information collection is to gather information on the effectiveness of the Davidson Fellowship program in reaching the desired outcomes, so that we can adaptively manage and make continuous improvements to the program. This information collection will take place initially in Fall 2020, as the first cohort of fellows begins their program, and will gather information from selected fellows, their faculty advisors, contacts from each university's sponsored program office, reserve staff, and NOAA federal and contract staff supporting the Davidson Fellowship program. It will take place again in Fall 2022, as the second cohort of fellows begins their program and the first cohort of fellows finishes, and will gather information from selected fellows, their faculty advisors, contacts from each university's sponsored program office, reserve staff, and NOAA federal and contract staff supporting the Davidson Fellowship program.

More information on the fellowship can be found at this link: Davidson Fellowship website.

Program Authority: Section 315 of the Coastal Zone Management Act of 1972, as amended CZMA, 16 U.S.C. 1461, establishes the National Estuarine Research Reserve System (NERRS). 16 U.S.C. 1461 (e)(1)(B) authorizes the Secretary of Commerce to make grants to any coastal state or public or private person for purposes of supporting research and monitoring within a National Estuarine Research Reserve that are consistent with the research guidelines developed under subsection (c).

II. Method of Collection

Information will be collected via an online survey, using Survey Monkey software, sent only to those directly involved with the Davidson Fellowship (student fellows, universities receiving funding for fellows, research reserves hosting the fellows, and NOAA staff and contractors supporting the program).

III. Data

OMB Control Number: 0648-xxxx.

Form Number(s): None.

Type of Review: Regular submission, new information collection.

Affected Public: Those directly involved in the Davidson Fellowship—individuals (student fellows), academic institutions (universities receiving funding for student fellows), state government (research reserves), and federal government (NOAA staff supporting the program).

Estimated Number of Respondents: 500.

Estimated Time Per Response: 15 minutes.

Estimated Total Annual Burden Hours: 52 hours (155 hours total spread over three years).

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-06874 Filed 4-1-20; 8:45 am]

BILLING CODE 3510-08-P